DEPARTMENT OF HEALTH AND HUMAN SERVICES

Centers for Disease Control and Prevention

ICD-9-CM Coordination and Maintenance Committee; Meeting

National Center for Health Statistics (NCHS), Data Policy and Standards Staff, announces the following meeting.

Name: ICD-9-CM Coordination and Maintenance Committee meeting.

Time and Date: 9 a.m.-5 p.m., November 17, 2000.

Place: The Health Care Financing Administration (HCFA), Multi-purpose Room, 7500 Security Boulevard, Baltimore, Maryland.

Status: Open to the public, limited only by the space available.

Purpose: The ICD-9-CM Coordination and Maintenance (C&M) Committee will hold its final meeting of the calendar year 2000 cycle on Friday November 17, 2000. The C&M meeting is a public forum for the presentation of proposed modifications to the International Classification of Diseases, Ninth-Revision, Clinical Modification.

Matters to be Discussed: Agenda items include:

Hemophilia carrier status

Developmental hip dislocation

Heart failure

Constipation

Urologic conditions

Clinical trial participant

Dental caries

Implementation of the ICD-10-PCS coding system

Removal of Intra-aortic balloon pump

Transcervical fetal oxygen saturation

Abdominal cerclage (FspOs) monitoring

Addenda

Contact Person for Additional Information: Amy Blum, Medical Classification Specialist, Data Policy and Standards Staff, NCHS, 6526 Belcrest Road, Room 1100, Hyattsville, Maryland 20782, telephone 301/458-4106 (diagnosis), Amy Gruber, Health Insurance Specialist, Division of Acute Care, HCFA, 7500 Security Blvd., Room C4-07-07, Baltimore, Maryland, 21244 telephone 410-786-1542 (procedures).

Notice: In the interest of security, HCFA has instituted stringent procedures for entrance into the building by non-government employees. Persons without a government I.D. must show a photo I.D. and sign-in at the security desk upon entering the building.

The Director, Management Analysis and Services Office, has been delegated the authority to sign Federal Register notices pertaining to announcements of meetings and other committee management activities, for both CDC and the Agency for Toxic Substances and Disease Registry.

Dated: October 17, 2000.
Carolyn J. Russell,
Director, Management Analysis and Services Office, Centers for Disease Control and Prevention.

[FR Doc. 00-27373 Filed 10-24-00; 8:45 am]

BILLING CODE 4160-18-P